COMMITTEE FOR PURCHASE FROM PEOPLE WHO ARE BLIND OR SEVERELY DISABLED

Procurement List; Proposed deletions

AGENCY: Committee for Purchase From People Who Are Blind or Severely Disabled.

ACTION: Proposed deletions from the Procurement List.

SUMMARY: The Committee is proposing to delete products and services to the Procurement List that were furnished by nonprofit agencies employing persons who are blind or have other severe disabilities.

DATES: Comments must be received on or before: August 18, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and services are proposed for deletion from the Procurement List:

Products

NSNs—Product Names:

7510-01-670-3776—Toner, Remanufactured, LaserJet, Standard Yield, HP 4700/N/DN/DTN/PH Compatible, Black

7510-01-670-3781—Toner, Remanufactured, LaserJet, Standard Yield, HP 4700/N/DN/DTN/PH Compatible, Cyan

7510-01-670-3778—Toner, Remanufactured, LaserJet, Standard Yield, HP 4700/N/DN/DTN/PH Compatible, Yellow

7510-01-670-9250—Toner, Remanufactured, LaserJet, Standard Yield, HP 4700/N/DN/DTN/PH Compatible, Magenta

Mandatory Source of Supply: Alabama Industries for the Blind, Talladega, AL

Contracting Activity: GSA/FAS ADMIN SVCS ACQUISITION BR(2, NEW YORK, NY

NSN—Product Name:

MR 10735—Crust Cutter, Licensed, Includes Shipper 20735

Mandatory Source of Supply: Winston-Salem Industries for the Blind, Inc., Winston-Salem, NC

Contracting Activity: Military Resale-Defense Commissary Agency

Services

Service Type: Litter Pickup

Mandatory for: Andrews Air Force Base, Andrews AFB, MD

Mandatory Source of Supply: The Chimes, Inc., Baltimore, MD

Contracting Activity: DEPT OF THE AIR FORCE, FA4416 316 CONS LGC

Service Type: Janitorial/Custodial

Mandatory for: Forest Supervisor's Office and Warehouse, 3815 Schreiber Way, Coeur d'Alene, ID

Mandatory Source of Supply: Skils'kin, Spokane, WA

Contracting Activity: FOREST SERVICE, IMAT ACQUISITION TEAM

Service Type: Janitorial/Guard Service

Mandatory for: VA Outpatient Clinic, Brighton, NY

Mandatory Source of Supply: Rochester Rehabilitation Center, Rochester, NY

Contracting Activity: VETERANS AFFAIRS, DEPARTMENT OF, NAC

Service Type: Food Service Attendant

Mandatory for: Veterans Affairs Medical Center: 7305 N Military Trail, West Palm Beach, FL

Mandatory Source of Supply: Gulfstream Goodwill Industries, Inc., West Palm Beach, FL

Service Type: Parking Facility Attendant

Mandatory for: Department of Veterans Affairs Medical Center: 4646 John R Street, Detroit, MI

Mandatory Source of Supply: Jewish Vocational Service and Community Workshop, Southfield, MI

Contracting Activity: VETERANS AFFAIRS, DEPARTMENT OF, NAC

Service Type: Switchboard Operation

Mandatory for: Veterans Affairs Medical Center: 4300 West 7th Street, North Little Rock, AR

Mandatory Source of Supply: Pathfinder, Inc., Jacksonville, AR

Contracting Activity: VETERANS AFFAIRS, DEPARTMENT OF, DEPARTMENT OF VETERANS AFFAIRS

Patricia Briscoe,
Deputy Director, Business Operations (Pricing and Information Management).

[FR Doc. 2019-15391 Filed 7-18-19; 8:45 am]

BILLING CODE 6353-01-P